DEPARTMENT OF VETERANS AFFAIRS

Veterans’ Disability Benefits Commission; Notice of Meeting

The Department of Veterans Affairs (VA) gives notice under Public Law 92-463 (Federal Advisory Committee Act) that the Veterans’ Disability Benefits Commission has scheduled a meeting for September 5-7, 2007, at the Hamilton Crowne Plaza Hotel, 14th and K Streets, NW., Washington, DC. On Wednesday, September 5, the session will begin at 10 a.m. and end at 5:30 p.m. On Thursday, September 6, the session will begin at 8:30 a.m. and end at 5:30 p.m. On Friday, September 7, the session will begin at 8:30 a.m. and end at 3 p.m. The meeting is open to the public.

The purpose of the Commission is to carry out a study of the benefits under the laws of the United States that are provided to compensate and assist veterans and their survivors for disabilities and deaths attributable to military service.

The agenda for this meeting will feature ongoing review, discussions and decisions regarding the Commission's final report. There will be time set aside for public comments. Interested persons may attend and present oral statements to the Commission on September 5. Oral presentations will be limited to five minutes or less. Interested parties may also provide written comments for review by the Commission prior to the meeting or, at any time, by e-mail to veterans@vetscommission.com or by mail to Mr. Ray Wilburn, Executive Director, Veterans' Disability Benefits Commission, 1101 Pennsylvania Avenue, NW., 5th Floor, Washington, DC 20004.

Dated: August 13, 2007.
By Direction of the Secretary
E. Philip Riggin,
Committee Management Officer.

[FR Doc. 07-4047 Filed 8-17-07; 8:45 am]

BILLING CODE 8320-01-M